DEPARTMENT OF THE INTERIOR

Bureau of Land Management

43 CFR Part 3100

[Docket No. BLM-2025-0137; A2407-014-004-065516; #O2412-014-004-047181.1]

RIN 1004-AF40

Revision to Regulations Regarding Onshore Oil and Gas Leasing; General

AGENCY: Bureau of Land Management, Interior.

ACTION: Final rule.

SUMMARY: The Bureau of Land Management (BLM) is amending its rules governing oil and gas leasing to effectuate changes to the definitions for “eligible” and “available” as required by the “One Big Beautiful Bill Act” (OBBB) enacted on July 4, 2025.

DATES: This final rule is effective on August 1, 2025.

FOR FURTHER INFORMATION CONTACT: Peter Cowan, Senior Minerals Leasing Specialist, email: picowan@blm.gov, telephone: 720-838-1641. Individuals in the United States who are deaf, deafblind, hard of hearing, or have a speech disability may dial 711 (TTY, TDD, or TeleBraille) to access telecommunications relay services. Individuals outside the United States should use the relay services offered within their country to make international calls to the point-of-contact in the United States.

For a summary of the final rule, please see the abstract description of the document in Docket Number BLM-2025-0137 on www.regulations.gov.

SUPPLEMENTARY INFORMATION: Oil and gas leasing on Federal lands managed by the BLM is governed by the Mineral Leasing Act of 1920 (MLA), 30 U.S.C. 181 et seq., and other pertinent statutes. The BLM's regulations applicable to oil and gas operations on BLM-managed lands are generally contained in 43 CFR part 3100. 43 CFR 3100.5 contains the definitions applicable to oil and gas operations.

Section 50101(d)(3) of the OBBB amended section 226(b)(1)(A) of the MLA to include definitions for “eligible” and “available” lands in reference to lands the BLM can lease for oil and gas development. The OBBB defines “eligible” as all lands that are subject to leasing under this Act and are not excluded from leasing by a statutory prohibition. The OBBB defines “available” as those lands that have been designated as open for leasing under a land use plan developed under section 202 of the Federal Land Policy and Management Act of 1976 (43 U.S.C. 1712) and that have been nominated for leasing through the submission of an expression of interest, are subject to drainage in the absence of leasing, or are otherwise designated as available pursuant to regulations adopted by the Secretary. These terms are integral to the BLM's determination of the lands that can be leased for oil and gas development and have been the subject of litigation in the past. The BLM is amending 43 CFR 3100.5 to include these two statutory definitions.

The BLM has determined that 43 CFR 3100.5 must be revised to reflect these critical statutory definitions and to avoid any confusion on the part of the public about how these terms will be applied by the BLM in determining which lands it can lease.

The BLM has determined that enactment of the OBBB, independently and alone, justifies the revisions to 43 CFR 3100.5. The Department has no interest in maintaining regulations that are not consistent with statutory requirements.

The BLM is issuing this rule as a final rule. Although the Administrative Procedure Act (APA, 5 U.S.C. 551 through 559) generally requires agencies to engage in notice and comment rulemaking, section 553 of the APA provides an exception when the agency “for good cause finds” that notice and comment are “impracticable, unnecessary, or contrary to the public interest.” Id. 553(b)(B). The BLM has determined that notice and comment are unnecessary because this rule is noncontroversial; of a minor, technical nature and involves no agency discretion.

Procedural Matters

Executive Order (E.O.) 12630—Governmental Actions and Interference With Constitutionally Protected Property Rights

This rule does not result in a taking of private property or otherwise have regulatory takings implications under E.O. 12630. The rule amends the regulations to include a definition required by the OBBB. The rule will not result in private property being taken for public use without just compensation. A takings implication assessment is not required.

E.O. 12866—Regulatory Planning and Review and Executive Order 13563—Improving Regulation and Regulatory Review

E.O. 12866 provides that the Office of Information and Regulatory Affairs (OIRA) in the Office of Management and Budget (OMB) will review all significant rules. OIRA has determined that this rule is not significant.

E.O. 13563 reaffirms the principles of E.O. 12866, while calling for improvements in the Nation's regulatory system to promote predictability, reduce uncertainty, and use the best, most innovative, and least burdensome tools for achieving regulatory ends. E.O. 13563 directs agencies to consider regulatory approaches that reduce burdens and maintain flexibility and freedom of choice for the public where these approaches are relevant, feasible, and consistent with regulatory objectives. E.O. 13563 emphasizes further that agencies must base regulations on the best available science and that the rulemaking process must allow for public participation and an open exchange of ideas. The BLM developed this rule in a manner consistent with these requirements.

E.O. 12988—Civil Justice Reform

This final rule complies with the requirements of E.O. 12988. Among other things, this rule:

(a) Meets the criteria of section 3(a) requiring that all regulations be reviewed to eliminate errors and ambiguity and be written to minimize litigation;

(b) Meets the criteria of section 3(b)(2) requiring that all regulations be written in clear language and contain clear legal standards.

E.O. 13132—Federalism

Under the criteria of section 1 of E.O. 13132, this rule does not have sufficient federalism implications to warrant the preparation of a federalism summary impact statement. This rule will not have substantial direct effects on the States, on the relationship between the national government and the States, or on the distribution of power and responsibilities among the various levels of government. A federalism summary impact statement is not required.

E.O. 13175—Consultation and Coordination With Indian Tribal Governments

The Department of the Interior strives to strengthen its government-to-government relationship with Indian tribes through a commitment to consultation with Tribes and recognition of their right to self-governance and Tribal sovereignty. The BLM evaluated this final rule under E.O. 13175 and the Department's consultation policies and determined that it has no substantial direct effects on federally recognized Indian Tribes and that consultation under the Department's Tribal consultation policies is not required. The rule merely amends the regulations to include statutorily required definitions.

E.O. 13211—Actions Concerning Regulations That Significantly Affect Energy Supply, Distribution, or Use

This final rule is not a significant energy action as defined in E.O. 13211. Therefore, a Statement of Energy Effects is not required.

National Environmental Policy Act (NEPA)

This final rule does not constitute a major Federal action significantly affecting the quality of the human environment. A detailed statement under NEPA (42 U.S.C. 4321 et seq.) is not required because this rule is covered by a categorical exclusion applicable to regulatory functions “that are of an administrative, financial, legal, technical, or procedural nature.” 43 CFR 46.210(i). In addition, the BLM has determined that this rule does not involve any of the extraordinary circumstances listed in 43 CFR 46.215 that would require further analysis under NEPA.

Paperwork Reduction Act

This rule does not impose any new information collection burden under the Paperwork Reduction Act. OMB previously approved the information collection activities contained in the existing regulations and assigned OMB control number 1004-0185. This rule does not impose an information collection burden because the BLM is not making any changes to the information collection requirements.

Regulatory Flexibility Act

The Regulatory Flexibility Act (RFA, 5 U.S.C. 601-612) requires an agency to prepare a regulatory flexibility analysis for all rules unless the agency certifies that the rule will not have a significant economic impact on a substantial number of small entities. The RFA applies only to rules for which an agency is required to first publish a proposed rule. See 5 U.S.C. 603(a) and 604(a). As the BLM is not required to publish a notice of proposed rulemaking for this final rule, the RFA does not apply.

Congressional Review Act

This rule is not a major rule under the Congressional Review Act, 5 U.S.C. 804(2). Specifically, the final rule: (a) Will not have an annual effect on the economy of $100 million or more; (b) Will not cause a major increase in costs or prices for consumers, individual industries, Federal, State, or local government agencies, or geographic regions; and (c) Will not have significant adverse effects on competition, employment, investment, productivity, innovation, or on the ability of United States-based enterprises to compete with foreign-based enterprises in domestic and export markets.

Unfunded Mandates Reform Act

This rule does not impose an unfunded mandate on State, local, or Tribal governments, or the private sector, of more than $100 million per year. The rule does not have a significant or unique effect on State, local, or Tribal governments, or the private sector. The rule merely revises the Federal regulations to include statutorily required definitions. Therefore, a statement containing the information required by the Unfunded Mandates Reform Act (2 U.S.C. 1531 et seq.) is not required.

List of Subjects in 43 CFR Part 3100

Government contracts, Government employees, Mineral royalties, Oil and gas exploration, Oil and gas reserves, Public lands—mineral resources, Reporting and recordkeeping requirements, Surety bonds.

Adam G. Suess,
Acting Assistant Secretary, Land and Minerals Management.

For the reasons stated in the preamble, the Bureau of Land Management amends 43 CFR part 3100 as follows:

PART 3100—OIL AND GAS LEASING

1. The authority citation for part 3100 continues to read as follows:

Authority: 25 U.S.C. 396d and 2107; 30 U.S.C. 189, 306, 359, and 1751; 43 U.S.C. 1701 et seq.; and 42 U.S.C. 15801.

2. Amend § 3100.5 by adding in alphabetical order definitions for “Available” and “Eligible” to read as follows:

§ 3100.5 Definitions.

* * * * *

Available means those lands that have been designated as open for leasing under a land use plan developed under section 202 of the Federal Land Policy and Management Act of 1976 (43 U.S.C. 1712) and that have been nominated for leasing through the submission of an expression of interest, are subject to drainage in the absence of leasing, or are otherwise designated as available pursuant to regulations adopted by the Secretary.

* * * * *

Eligible means all lands that are subject to leasing under the Mineral Leasing Act of 1920 and are not excluded from leasing by a statutory prohibition.

* * * * *

[FR Doc. 2025-14626 Filed 7-31-25; 8:45 am]

BILLING CODE 4331-29-P